DEPARTMENT OF DEFENSE

Office of the Secretary

[Docket ID: DoD-2021-OS-0057]

Privacy Act of 1974; System of Records

AGENCY: Office of the Secretary (OSD), Department of Defense (DoD).

ACTION: Notice of a modified system of records.

SUMMARY: The OSD is modifying a system of records, originally titled “Spouse Education and Career Opportunities (SECO) Program, DPR 46,” to rename it “Military Spouse Education and Career Opportunities (SECO) and Career Advancement Account Scholarship (MyCAA) Programs,” DPR 46, and make other changes. This system of records is being modified to include records of the Military Spouse Career Advancement Accounts Scholarship Program. The SECO and MyCAA Programs make resources and tools available to help military spouses with career exploration and discovery, career education and training, employment readiness, and career connections at any point within the military spouse's career.

DATES: This system of records is effective upon publication; however, comments on the Routine Uses will be accepted on or before August 9, 2021. The Routine Uses are effective at the close of the comment period.

ADDRESSES: You may submit comments, identified by docket number and title, by any of the following methods:

* Federal Rulemaking Portal: https://www.regulations.gov.

Follow the instructions for submitting comments.

* Mail: DoD cannot receive written comments at this time due to the COVID-19 pandemic. Comments should be sent electronically to the docket listed above.

Instructions: All submissions received must include the agency name and docket number for this Federal Register document. The general policy for comments and other submissions from members of the public is to make these submissions available for public viewing on the internet at https://www.regulations.gov as they are received without change, including any personal identifiers or contact information.

FOR FURTHER INFORMATION CONTACT: Mr. Justin (JK) Kinnaman, 4000 Defense Pentagon, 5E604, Washington, DC 20301-4000, osd.pentagon.ousd-p-r.mbx.mso@mail.mil or (703) 571-0104.

SUPPLEMENTARY INFORMATION:

I. Background

This system of records supports the SECO and MyCAA Programs, which make resources and tools available to help military spouses with career exploration and discovery, career education and training, employment readiness, and career connections at any point within the military spouse's career. The DoD SECO Program, with the addition of the MyCAA Program, will assist military spouses in pursuing licenses, certificates, certifications or Associate's degrees (excluding Associate's degrees in general studies, liberal arts, and interdisciplinary studies that do not have a concentration) necessary for gainful employment in high demand, high-growth portable career fields and occupations. The system allows the spouse to build a profile including their contact information, education, and employment data. The system allows the spouse to save information over time to easily prepopulate it into tools such as resume builders and career and education planning resources. Records in this system may also be used as a management tool for statistical analysis, tracking, reporting, evaluating program effectiveness, conducting research, and for surveys to inform departmental decisions on military support and benefits policy.

Subject to public comment, the DoD proposes to update this SORN to add the standard DoD routine uses (routine uses A through I) and to allow for additional disclosures outside DoD related to the purpose of this system of records. Additionally, the following sections of the DPR 46 SORN are also being changed: System name, system location, authority, purpose, categories of records, record source categories, retrieval of records, retention and disposal of records, safeguards, contesting records, notification procedures, and history.

DoD SORNs have been published in the Federal Register and are available from the address in FOR FURTHER INFORMATION CONTACT or at the Defense Privacy, Civil Liberties, and Transparency Division (DPCLTD) website at https://dpcld.defense.gov/Privacy/.

II. Privacy Act

Under the Privacy Act, a “system of records” is a group of records under the control of an agency from which information is retrieved by the name of an individual or by some identifying number, symbol, or other identifying particular assigned to the individual. In the Privacy Act, an individual is defined as a U.S. citizen or lawful permanent resident.

In accordance with 5 U.S.C. 552a(r) and Office of Management and Budget (OMB) Circular No. A-108, DPCLTD has provided a report of this system of records to the OMB and to Congress.

Dated: June 28, 2021.
Aaron T. Siegel,
Alternate OSD Federal Register Liaison Officer, Department of Defense.

SYSTEM NAME AND NUMBER:

Military Spouse Education and Career Opportunities (SECO) and Career Advancement Account Scholarship (MyCAA) Programs, DPR 46.

SECURITY CLASSIFICATION:

Unclassified.

SYSTEM LOCATION:

Defense Information Systems Agency (DISA), Defense Enterprise Computing Centers (DECC) Montgomery, 401 East Moore Drive, Maxwell Air Force Base, AL 36114-3000. Information may also be stored within a government-certified cloud, in accordance with policy established by the Department's Chief Information Officer (CIO), 6000 Defense Pentagon, Washington, DC 20301-6000.

SYSTEM MANAGER(S):

Director, Military Community Support Programs, SECO Program Manager, Military Community and Family Policy (MC&FP), 4800 Mark Center Drive, Alexandria, VA 22350-2300; email: osd.msepjobs@mail.mil, phone: 571-372-5314.

AUTHORITY FOR MAINTENANCE OF THE SYSTEM:

10 U.S.C. 136, Under Secretary of Defense for Personnel and Readiness; 10 U.S.C. 1144, Employment Assistance, Job Training Assistance, and Other Transitional Services: Department Of Labor; 10 U.S.C. 1782, Surveys of Military Families; 10 U.S.C. 1784, Employment opportunities for military spouses; 10 U.S.C. 1784a, Education and training opportunities for military spouses to expand employment and portable career opportunities; E.O. 13607, Establishing Principles of Excellence for Educational Institutions Serving Service members, Veterans, Spouses, and Other Family Members; and DoD Instruction 1342.22, Military Family Readiness.

PURPOSE OF THE SYSTEM:

A. To support the operation of the SECO program, which is the primary source of education, career, employment counseling, and scholarship financial assistance for all military spouses, and the SECO website, which delivers the resources and tools necessary to assist military spouses with career exploration/discovery, career education and training, employment readiness, and career connections.

B. To support the operation of the MyCAA program, which provides a record of educational endeavors and progress of military spouses participating in education services and manages tuition assistance scholarship, tracks enrollments and funding, and facilitates communication with participants.

C. To support statistical analysis, tracking, reporting, program effectiveness evaluations, research, and surveys to inform departmental decisions on military support and benefits policy.

CATEGORIES OF INDIVIDUALS COVERED BY THE SYSTEM:

Participating spouses of members of the United States Armed Forces (military spouses).

CATEGORIES OF RECORDS IN THE SYSTEM:

A. Concerning the military spouse: Name, DoD ID number, date of birth, gender, contact information such as address, email address, and phone numbers; years as military spouse; previous work experience, education, certificates and licenses; skills, abilities, and competencies, user account information and any unique identifying user number assigned to the military spouse. Information about program-related activity such as education training plan, career goal, and course/educational institution enrollment and status information; financial assistance information; academic evaluations and/or transcripts from schools, and education test results from testing agencies.

B. Concerning the military sponsor: Name, pay grade, current projected date of separation, branch of service, service eligibility, permanent change of station location, and time in service.

RECORD SOURCE CATEGORIES:

The military spouse and/or sponsor; transcripts and/or evaluations from schools and test results from testing agencies; the Defense Enrollment Eligibility Reporting System (DEERS).

ROUTINE USES OF RECORDS MAINTAINED IN THE SYSTEM, INCLUDING CATEGORIES OF USERS AND THE PURPOSES OF SUCH USES:

In addition to those disclosures generally permitted under 5 U.S.C. 552a(b) of the Privacy Act of 1974, as amended, the records contained herein may specifically be disclosed outside the DoD as a routine use pursuant to 5 U.S.C. 552a(b)(3) as follows:

A. To contractors, grantees, experts, consultants, students, and others performing or working on a contract, service, grant, cooperative agreement, or other assignment for the federal government when necessary to accomplish an agency function related to this system of records.

B. To the appropriate federal, state, local, territorial, tribal, or foreign, or international law enforcement authority or other appropriate entity where a record, either alone or in conjunction with other information, indicates a violation or potential violation of law, whether criminal, civil, or regulatory in nature.

C. To any component of the Department of Justice for the purpose of representing the DoD, or its components, officers, employees, or members in pending or potential litigation to which the record is pertinent.

D. In an appropriate proceeding before a court, grand jury, or administrative or adjudicative body or official, when the DoD or other Agency representing the DoD determines that the records are relevant and necessary to the proceeding; or in an appropriate proceeding before an administrative or adjudicative body when the adjudicator determines the records to be relevant to the proceeding.

E. To the National Archives and Records Administration for the purpose of records management inspections conducted under authority of 44 U.S.C. 2904 and 2906.

F. To a Member of Congress or staff acting upon the Member's behalf when the Member or staff requests the information on behalf of, and at the request of, the individual who is the subject of the record.

G. To appropriate agencies, entities, and persons when (1) the DoD suspects or confirms a breach of the system of records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

H. To another Federal agency or Federal entity, when the DoD determines that information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

I. To such recipients and under such circumstances and procedures as are mandated by Federal statute or treaty.

J. To authorized DoD contractors and grantees for the purpose of supporting research studies concerned with the education of military spouses participating in DoD-funded spousal education programs in non-identifiable form.

K. To civilian educational institutions where the participant is enrolled, for the purposes of ensuring correct enrollment and billing information.

L. To the Department of Veterans Affairs, to the Department of Education, Consumer Financial Protection Bureau, and the Department of Justice for the purpose of ensuring prospective students are provided appropriate information regarding their options under, eligibility for, and costs associated with Federal military and veterans' educational benefits programs.

POLICIES AND PRACTICES FOR STORAGE OF RECORDS:

Records are maintained in electronic storage media. Electronic records may be stored in agency-owned cloud environments; or in vendor Cloud Service Offerings certified under the Federal Risk and Authorization Management Program (FedRAMP).

POLICIES AND PRACTICES FOR RETRIEVAL OF RECORDS:

Information in this system may be retrieved by name, DoD ID number, or MyCAA profile number.

POLICIES AND PRACTICES FOR RETENTION AND DISPOSAL OF RECORDS:

A. SECO user accounts and records are deleted after 3 consecutive years of inactivity.

B. MyCAA records are destroyed 10 years after notification of separation, retirement, or discharge of the spouse's sponsor/service member.

ADMINISTRATIVE, TECHNICAL, AND PHYSICAL SAFEGUARDS:

Unauthorized access to records is low due to the system being hosted on a DoD Risk Management Framework lifecycle cybersecurity infrastructure. Electronic records are maintained on a military installation in a secure building in a controlled area accessible only to authorized personnel. Physical entry is restricted by the use of locks and passwords and administrative procedures which are changed periodically. The system is designed with access controls, comprehensive intrusion detection, and virus protection. Access to personally identifiable information is role based and restricted to those requiring the data in the performance of their official duties and upon completing annual information assurance and privacy training. Records are encrypted during transmission to protect session information and at rest. Encrypted random tokens are implemented to protect against session hijacking attempts.

RECORD ACCESS PROCEDURES:

Individuals seeking access to their records should follow the procedures in 32 CFR part 310. Individuals should address written inquires to the Office of the Secretary of Defense/Joint Staff Freedom of Information Act Requester Service Center, 1155 Defense Pentagon, Washington, DC 20301-1155. Signed, written requests should include the individual's full name, DoD ID number, current address, and telephone number and this system of records notice number. In addition, the requester must provide either a notarized signature or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The DoD rules for accessing records, contesting contents, and appealing initial agency determinations are contained in 32 CFR part 310.

NOTIFICATION PROCEDURES:

Individuals seeking to determine whether information about themselves is contained in this system should follow the instructions for Record Access Procedures above.

EXEMPTIONS PROMULGATED FOR THE SYSTEM:

None.

HISTORY:

May 21, 2018; 83 FR 23438.

[FR Doc. 2021-14609 Filed 7-7-21; 8:45 am]

BILLING CODE 5001-06-P